DEPARTMENT OF TRANSPORTATION

Federal Railroad Administration

Petition for Waiver of Compliance

In accordance with Part 211 of Title 49 of the Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Alaska Railroad Corporation

[Docket Number FRA-2000-7350]

The Alaska Railroad Corporation (ARR) seeks a temporary waiver of compliance with a provision of the Passenger Equipment Safety Standards (49 CFR part 238). ARR has been transporting full-length dome cars owned by Westours Motorcoaches, Inc. since 1987. ARR states that the cars currently have two emergency exits on each side of the car located in the staggered hallways (a total of four emergency exits per car located mid-way between the upper main level and a small lower level). Westours Motorcoaches, Inc. determined that the placement of the current emergency exits did not comply with 49 CFR 238.113(a) which addresses the number and location of emergency exits. Accordingly, Westours contracted for retrofit of existing dome cars to comply with section 238.1139(a). Although delivery of compliant emergency windows was originally scheduled for April 1, 2000, due to technical problems, delivery may not be accomplished until as late as August 1, 2000.

ARR is therefore requesting a temporary waiver from section 238.113(a) until August 1, 2000 to permit it to use Westours Motorcoaches, Inc. dome cars in revenue and non-revenue service until that time.

Interested parties are invited to participate in these proceedings by submitting written views, data, or comments. FRA does not anticipate scheduling a public hearing in connection with this proceeding since the facts do not appear to warrant a hearing. If any interested party desires an opportunity for oral comment, they should notify FRA, in writing, before the end of the comment period and specify the basis for their request.

All communications concerning this proceeding should identify the appropriate docket number (e.g. Docket No. FRA-2000-7350) and must be submitted to the Docket Clerk, DOT Docket Management Facility, Room PL-401 (Plaza Level), 400 7th Street, SW, Washington, DC 20590. Communications received within 15 days of the date of this notice will be considered by FRA before final action is taken. Comments received after that date will be considered as far as practicable. All written communications concerning this proceeding are available for examination during regular business hours (9:00 am—5:00 pm) at the above facility.

All documents in the public docket are also available for inspection and copying on the internet at the docket facility's web site at http://dms.dot.gov.

Issued in Washington, D.C. on May 11, 2000.
Grady C. Cothen, Jr.,
Deputy Associate Administrator for Safety Standards and Program Development.

[FR Doc. 00-12567 Filed 5-17-00; 8:45 am]

BILLING CODE 4910-06-P